DEPARTMENT OF ENERGY

Federal Energy Regulatory Commission

Combined Notice of Filings #2

Take notice that the Commission received the following electric rate filings:

Docket Numbers: ER14-2884-002.

Applicants: Kansas City Power & Light Company, KCP&L Greater Missouri Operations Company.

Description: Compliance filing: Protocols Compliance Filing to be effective 3/1/2015.

Filed Date: 12/23/15.

Accession Number: 20151223-5163.

Comments Due: 5 p.m. ET 1/13/16.

Docket Numbers: ER16-631-000.

Applicants: PacifiCorp.

Description: Section 205(d) Rate Filing: BPA Construction Agmt (USBR Green Springs Rev 1) to be effective 2/22/2016.

Filed Date: 12/23/15.

Accession Number: 20151223-5151.

Comments Due: 5 p.m. ET 1/13/16.

Docket Numbers: ER16-632-000.

Applicants: Blythe Solar II, LLC.

Description: Baseline eTariff Filing: Blythe Solar II, LLC Application for Market-Based Rates to be effective 4/1/2016.

Filed Date: 12/23/15.

Accession Number: 20151223-5161.

Comments Due: 5 p.m. ET 1/13/16.

Docket Numbers: ER16-633-000.

Applicants: California Independent System Operator Corporation.

Description: Section 205(d) Rate Filing: 2015-12-23 ABAOA with CENACE-GCRBC, Termination of CFE ICAOA & Waiver Request to be effective 1/1/2016.

Filed Date: 12/23/15.

Accession Number: 20151223-5207.

Comments Due: 5 p.m. ET 1/13/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2015.
Nathaniel J. Davis, Sr.,
Deputy Secretary.

[FR Doc. 2015-32828 Filed 12-29-15; 8:45 am]

BILLING CODE 6717-01-P